DEPARTMENT OF ENERGY

Federal Energy Regulatory Commission

[Project No. 3240-040]

Briar Hydro Associates; Notice of Application Tendered for Filing With the Commission and Soliciting Additional Study Requests and Establishing Procedural Schedule for Relicensing and a Deadline for Submission of Final Amendments

Take notice that the following hydroelectric application has been filed with the Commission and is available for public inspection.

a. Type of Application: New License.

b. Project No.: 3240-040.

c. Date Filed: November 30, 2022.

d. Applicant: Briar Hydro Associates.

e. Name of Project: Rolfe Canal Hydroelectric Project.

f. Location: On the Contoocook River, in the City of Concord, Merrimack County New Hampshire. No federal lands are located within the project boundary.

g. Filed Pursuant to: Federal Power Act 16 U.S.C. 791(a)-825(r)

h. Applicant Contact: Andrew J. Locke, Essex Hydro Associates, LLC, 55 Union Street, Boston, MA 02108; (617) 357-0032, email—alocke@essexhydro.com.

i. FERC Contact: Jeanne Edwards at (202) 502-6181; or jeanne.edwards@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: January 29, 2023.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Rolfe Canal Project (P-3240-040).

m. The application is not ready for environmental analysis at this time.

n. The Rolfe Canal Project diverts water from the York Dam into the Rolfe Canal and consists of the following existing facilities: (1) York impoundment with a surface area of 50-acres, at elevation of 342.5 feet National Geodetic Vertical Datum 1929 (NGVD29); (2) a 300-foot-long, 10-foot-high diversion dam (York Dam); (3) a 50-foot-wide concrete gated intake structure; (4) a 7,000-foot-long, 75-foot-wide, and 9-foot-deep power canal; (5) an additional impoundment (created by York Dam at the end of the power canal) with surface area of 3-acres, at elevation of 342.5 feet NGVD29, and a negligible storage capacity; (6) a 130-foot-long, 17-foot-high granite block intake dam; (7) a 950-foot-long underground penstock; (8) a 32-foot-wide by 90-foot-long, concrete powerhouse containing one Kaplan turbine-generating unit with a capacity of 4.285 megawatts; (9) a 1,200-foot-long tailrace; (10) transmission facilities consisting of a three-phase 4.16/34.5- kilovolt (kV) transformer; and a 34.5-kV, 650-foot-long transmission line; and (11) other appurtenances. The project has a 4,000-foot-long bypassed reach.

The project operates in a run-of-river mode with a minimum flow of 338 cubic feet per second (cfs), or inflow, whichever is less, into the York impoundment, a minimum flow of 50 cfs into the York bypass, and a minimum flow of 5 cfs into a historic channel that bypasses the penstock. The project had an average annual generation of 19,585,884 kilowatt-hours between 2014 and 2018. Briar Hydro proposes to increase the minimum flow into the York bypass to 100 cfs.

o. Copies of the application may be viewed on the Commission's website at http://www.ferc.gov using the “eLibrary” link. Enter the docket number excluding the last three digits in the docket number field to access the document (P-3240). For assistance, contact FERC Online Support at FERCOnlineSupport@ferc.gov or call toll-free, (866) 208-3676 or (202) 502-8659 (TTY).

You may also register online at http://www.ferc.gov/docs-filing/esubscription.asp to be notified via email of new filings and issuances related to this or other pending projects. For assistance, contact FERC Online Support.

p. Procedural schedule and final amendments: The application will be processed according to the following preliminary schedule. Revisions to the schedule will be made as appropriate.

Issue Deficiency Letter (if necessary) February 2023

Request Additional Information (if necessary) March 2023

Issue Acceptance Letter May 2023

Issue Scoping Document 1 for comments May 2023

Issue Scoping Document 2 (if necessary) August 2023

Issue Notice of Ready for Environmental Analysis August 2023

q. Final amendments to the application must be filed with the Commission no later than 30 days from the issuance date of the notice of ready for environmental analysis.

Dated: December 14, 2022.
Kimberly D. Bose,
Secretary.

[FR Doc. 2022-27587 Filed 12-19-22; 8:45 am]

BILLING CODE 6717-01-P